DEPARTMENT OF THE INTERIOR

Fish and Wildlife Service

50 CFR Part 17

Endangered and Threatened Wildlife and Plants; 90-Day Finding for a Petition To Delist the Woodland Caribou

AGENCY: Fish and Wildlife Service, Interior.

ACTION: Notice of 90-day petition finding.

SUMMARY: We, the U.S. Fish and Wildlife Service (Service), announce a 90-day finding on a petition to remove the woodland caribou (Rangifer tarandus caribou) from the Federal list of endangered species pursuant to the Endangered Species Act of 1973, as amended (Act). We find that the petition did not present substantial scientific or commercial information indicating that delisting of the woodland caribou may be warranted.

DATES: The finding announced in this document was made on October 13, 2000.

ADDRESSES: Data, information, comments, or questions concerning this petition should be submitted to the Field Supervisor, Upper Columbia River Basin Field Office, U.S. Fish and Wildlife Service, 11103 E. Montgomery Drive, Spokane, Washington 99206. The petition finding, supporting data, and comments are available for public inspection, by appointment, during normal business hours at the above address.

FOR FURTHER INFORMATION CONTACT: Susan Martin, Supervisor, Upper Columbia River Basin Office, at the above address (telephone 509/891-6839; facsimile 509/891-6748).

SUPPLEMENTARY INFORMATION:

Background

Section 4(b)(3)(A) of the Act (16 U.S.C. 1531 et seq.) requires that we make a finding on whether a petition to list, delist, or reclassify a species presents substantial information indicating that the petitioned action may be warranted. We base the finding on information submitted with, and referenced in, the petition and all other information available to us at the time we make the finding. To the maximum extent practicable, this finding is to be made within 90 days of the receipt of the petition, and the finding is to be published promptly in the Federal Register. If we find that substantial information supports the petitioned action, section 4(b)(3)(B) of the Act requires us to promptly commence a review of the status of the species and to disclose our findings within 12 months.

On May 27, 1998, we received a petition dated May 22, 1998, to delist the endangered population of woodland caribou (Rangifer tarandus caribou), which is located in the Selkirk Mountains of northeast Washington, northern Idaho, and southeast British Columbia, Canada. The petition was submitted by Peter B. Wilson, representing the Greater Bonners Ferry Chamber of Commerce, Bonners Ferry, Idaho.

In a letter dated June 12, 1998, we notified the petitioner that a finding on their petition would be delayed due to a backlog of higher priority listing activities. This backlog resulted from a moratorium on listing activities enacted by Congress in 1995 and a subsequent series of inadequate budgets for listing activities. We now use funding for recovery activities to support work on findings for delisting petitions, and, therefore, we were able to proceed with this finding.

The petitioner made a number of assertions in the petition, but the main points were—(1) our determination to list and maintain the listing of the caribou is based solely on conjecture and inadequate research, and no biological reason or need for the listing has been established by research and conclusion; (2) there is no significant biological distinction between the mountain and woodland caribou, and, since there are numerous “woodland” caribou in Canada, their listing in the United States is not warranted (also, the petitioner contends there is a problem with mixing mountain and woodland caribou within the Selkirk population); (3) the petitioner has several concerns regarding the historical and current range of the woodland caribou and whether or not caribou ever inhabited the conterminous United States, including Idaho; (4) no environmental impact statement was prepared for the listing; (5) caribou mortalities within this population have been high; and (6) old growth forest has not been established as a requirement for caribou habitat.

We have reviewed the petition and other documentation to determine if substantial information has been presented to indicate that the requested action may be warranted. The factors for listing, delisting, or reclassifying species are described at 50 CFR 424.11. We may delist a species only, after conducting a review of the species status, if the best scientific and commercial data available substantiate that it is neither endangered nor threatened. Delisting may be warranted as a result of—(1) extinction, (2) recovery, or (3) a determination that the original data used for classification of the species as endangered or threatened were in error.

Our determination to list the woodland caribou was made on the basis of the best scientific and commercial data available (49 FR 7390; February 29, 1984). The petition's assertion that the listing of the woodland caribou is based solely on conjecture comes from the petitioner's interpretation of our revised Recovery Plan for Woodland Caribou in the Selkirk Mountains (Recovery Plan). The Recovery Plan stated a number of unknowns about caribou biology, population factors, and habitat variables. These statements were made in the context of gathering the information needed to support recovery actions. Though it is true there is much to learn about the caribou, at the time of listing, we had enough information to warrant the listing of the species, including substantial information on habitat fragmentation, poaching, and a genetic bottleneck.

Regarding the issue of “woodland” versus “mountain” caribou, woodland caribou occur in two distinct ecotypes (a locally adapted population of a widespread species): The northern ecotype and the mountain ecotype. In woodland caribou, ecotypic differentiation is based on habitat use and behavior patterns. The endangered Selkirk population is the mountain ecotype. Both ecotypes are within the same subspecies; there is no genetic distinction between caribou inhabiting the northern ecotype and those inhabiting the mountain ecotype (Service 1994).

Historically, woodland caribou were distributed across the northeastern, northcentral, and northwestern conterminous United States (Fashingbauer 1965, cited in Service 1994; McCollough 1991). It is well-documented that the species' range was once more extensive than it is today. Caribou once occurred as far south as the Salmon River in Idaho and as far east as the North Fork of the Flathead River in Montana (Evans 1960). Before 1910, they occupied the Selkirk, Cabinet, Purcell, and Bitterroot Mountains (Evans 1960; Layser 1974). By the 1950's, caribou were reduced to about 100 animals occupying about 2,590 square kilometers (1,000 square miles) in the Selkirk Mountains, with remnant bands in the Cabinet and Yaak Mountains (Flinn 1956; Evans 1960). Although by 1983 the distribution of the Selkirk Mountains woodland caribou population centered around Stagleap Provincial Park several miles north of the border in British Columbia, caribou inhabited the U.S. portion of the Selkirk Ecosystem as well, and continue to do so today.

At the time of listing, we did not distinguish the caribou population by State. Caribou movement within home ranges may cross State boundaries, and the listing decision was based on the species' status within the United States. According to section 3(15) of the Act, “species” can include “any distinct population segment of any species of vertebrate fish or wildlife which interbreeds when mature.” We listed the woodland caribou as a distinct vertebrate population segment limited to Idaho, Washington, and that part of southeast British Columbia, Canada, bounded by the United States-Canadian border, Columbia River, Kootenay River, and Kootenay Lake. The Selkirk Mountain population of woodland caribou was listed because its range and distribution within the conterminous United States had undergone a significant decline and the species was being affected by a variety of ongoing threats.

We did not prepare an environmental impact statement at the time of listing the woodland caribou. As stated in the final rule listing the woodland caribou published in the Federal Register on October 25, 1983 (48 FR 49244), we determined that environmental assessments and environmental impact statements need not be prepared in connection with regulations adopted pursuant to section 4 of the Act. Regulations addressing the listing of endangered and threatened species (50 CFR 424.11) state that listing, reclassification, and delisting decisions are to be based solely on the basis of the best scientific and commercial information regarding species status, without reference to possible economic or other impacts of such determination.

The petitioners are correct in that the woodland caribou population has experienced significant mortalities due to a number of factors. The population, which consisted of an estimated 25-30 animals when it was listed in 1984, has been augmented with a total of 103 animals over an 11-year period between 1987 and 1998. In 1998, the population consisted of an estimated 44 animals (includes animals recruited into the population through reproduction). Fifty-nine of the transplanted caribou died over this 11-year period, and the fate of 21 others is unknown due to radio-collar loss or failure. However, while this speaks to the difficulty and critical nature of the recovery program, it does not provide a reason to delist the caribou.

Seasonal habitat use patterns and forage requirements by woodland caribou have been documented by research in northern Idaho and British Columbia. Occasionally, caribou have been observed feeding on succulent, newly emerging vegetation in clearcuts in the spring. However, data show that, even during spring, caribou preferentially use old-growth and mature forest habitats as a source of forage (Wakkinen et al. 1992). As to use of old-growth during other seasons of the year, caribou nearly exclusively use old-growth forest during early winter through late spring (Scott and Servheen 1984).

When evaluating petitions for delisting of species under the Act, our guidelines state that a “not-substantial information” finding be made when a petition to delist a species presents no new information indicating the original data for listing the species may be in error (Service and National Marine Fisheries Service 1996). We have reviewed the petition and other available literature. We conclude the petition does not present substantial information to indicate that the original data for listing the species was in error, or that delisting the Selkirk Mountains woodland caribou may be warranted. Furthermore, the species has not met the recovery objectives identified in the 1994 Recovery Plan, which calls for an increasing population and secure habitat.

References Cited

Evans, H.F. 1960. A preliminary investigation of caribou in northwestern United States. Masters Thesis, University of Montana, Missoula, Montana. 145 pp.

Flinn, P. 1956. Caribou of Idaho. Unpublished report, Idaho Department of Fish and Game, Boise, Idaho. 57 pp. + attachments

Layser, E.F. 1974. A review of the mountain caribou of northeastern Washington and adjacent northern Idaho. Journal of the Idaho Academy of Science, Special Research Issue No. 3, 63 pp.

McCollough, M. 1991. Final Report—Maine caribou project 1986-1990. University of Maine, Orono, Maine. 13 pp. and 24 pp.

Scott, M. and G. Servheen. 1984. Caribou ecology. Unpublished report. Idaho Department of Fish and Game. Boise, Idaho. 78 pp.

U.S. Fish and Wildlife Service. 1994. Selkirk Mountain woodland caribou recovery plan. Portland, Oregon. 63 pp.

U.S. Fish and Wildlife Service and National Marine Fisheries Service. 1996. Endangered species petition management guidance. Washington, D.C. 20 pp. + appendices

Wakkinen, W.L., B. Compton, and P. Zager. 1992. Selkirk Mountain caribou transplant. Unpublished report. Idaho Department of Fish and Game, Boise, Idaho. Pages i, iii, 16-18

Author

The primary author of this document is Suzanne Audet, Fish and Wildlife Service, Upper Columbia River Basin Office (see ADDRESSES section).

Authority

The authority for this action is the Endangered Species Act (16 U.S.C. 1531 et seq.).

Dated: October 13, 2000.
Jamie Rappaport Clark,
Director, Fish and Wildlife Service.

[FR Doc. 00-27232 Filed 10-31-00; 8:45 am]

BILLING CODE 4310-55-P